GENERAL SERVICES ADMINISTRATION

41 CFR Part 102-76

[FMR Amendment 2005-03; FMR Case 2005-102-8; Docket 2007-0001, Sequence 2]

RIN 3090-AI17

Federal Management Regulation; Real Property Policies Update; Technical Amendment

AGENCY: Office of Governmentwide Policy, General Services Administration.

ACTION: Final rule.

SUMMARY: This document amends the Federal Management Regulation (FMR) to correct an omission from the amended final rule that was published in the Federal Register at 71 FR 52498, September 6, 2006. The original final rule, which was published initially in the Federal Register at 70 FR 67786, November 8, 2005, broadly applied GSA’s accessibility standards to the design, construction and alteration of buildings subject to the Architectural Barriers Act (other than residential structures subject to the Architectural Barriers Act and facilities of the Department of Defense and the Postal Service), as provided by statute. When the implementation dates for the accessibility standards were amended on September 6, 2006, the amendment inadvertently deleted reference to facilities other than those that were Federally-owned or leased. Accordingly, this final rule corrects this oversight. Except as expressly modified by this final rule, all other terms and conditions of the Architectural Barriers Act standards remain in full force and effect.

DATES: Effective Date: February 8, 2007.

FOR FURTHER INFORMATION CONTACT: The Regulatory Secretariat, Room 4035, GSA Building, 1800 F Street, NW., Washington, DC 20405, (202) 501-4755, for information pertaining to status or publication schedules. For clarification of content, contact Mr. Stanley C. Langfeld, Director, Regulations Management Division, General Services Administration, at (202) 501-1737, or by e-mail at stanley.langfeld@gsa.gov. Please cite FMR Case 2005-102-8, Amendment 2005-03, Technical Amendment.

List of Subjects in 41 CFR Part 102-76

Federal buildings and facilities.

Dated: January 25, 2007
Lurita Doan,
Administrator of General Services.

For the reasons set forth in the preamble, GSA amends 41 CFR chapter 102 as set forth below:

PART 102-76—DESIGN AND CONSTRUCTION

1. The authority citation for 41 CFR part 102-76 is revised to read as follows:

Authority: 40 U.S.C. 121(c) (in furtherance of the Administrator’s authorities under 40 U.S.C. 3301-3315 and elsewhere as included under 40 U.S.C. 581 and 583); 42 U.S.C. 4152; E.O. 12411, 48 FR 13391, 3 CFR, 1983 Comp., p. 155; E.O. 12512, 50 FR 18453, 3 CFR, 1985 Comp., p. 340.

2. Amend section 102-76.5 by adding a sentence to the end of the section to read as follows:

§ 102-76.5 What is the scope of this part?

* * * The accessibility standards in Subpart C of this part apply to Federal agencies and other entities whose facilities are subject to the Architectural Barriers Act.

3. Amend section 102-76.65 by revising the second sentence in the introductory text of paragraph (a) and paragraph (a)(1) to read as follows:

§ 102-76.65 What standards must facilities subject to the Architectural Barrier Act meet?

(a) * * * Facilities subject to the Architectural Barriers Act (other than facilities described in paragraphs (b) and (c) of this section) must comply with ABAAS as set forth below:

(1) For construction or alteration of facilities subject to the Architectural Barriers Act (other than Federal lease-construction and other lease actions described in paragraphs (a)(2) and (3), respectively, of this section), compliance with ABAAS is required if the construction or alteration commenced after May 8, 2006. If the construction or alteration of such a facility commenced on or before May 8, 2006, compliance with the Uniform Federal Accessibility Standards (UFAS) is required.

[FR Doc. E7-2066 Filed 2-7-07; 8:45 am]

BILLING CODE 6820-RH-S